POSTAL SERVICE

39 CFR Part 20

International Mail; Changes in Postal Rates, Fees, and Mail Classifications

AGENCY: Postal Service.

ACTION: Change of Effective Date for Elimination of Global Package Link Service.

SUMMARY: The Postal Service is changing the effective date for elimination of the Global Package Link service from April 1, 2001 to April 30, 2001. This change will allow our customers more time to change their manifesting systems.

DATES: 1. The effective date of the elimination of Global Package Link service published in the Federal Register on December 8, 2000 (65 FR 77076), is delayed until April 30, 2001.

2. The effective date of the final rule amending international postal rates, fees, and mail classifications in 39 CFR part 20 published on December 8, 2000, remains January 7, 2001.

FOR FURTHER INFORMATION CONTACT: Angus MacInnes, 703-292-3601.

SUPPLEMENTARY INFORMATION: • On September 26, 2000, the Postal Service published in the Federal Register (65 FR 57864) a notice of proposed changes to international postal rates, fees, and mail classifications. In that notice, we proposed eliminating the Global Package Link service. We also stated that current customers will be offered other services for their mail.

• On December 8, 2000, the Postal Service published the final rule in the Federal Register (65 FR 77076). In that rule, we stated that the current service hasn't attracted enough customers to justify continuation of the service in its current form. Therefore, we eliminated the service. However, because of the comments from customers who use the Global Package Link service, the Postal Service delayed the elimination of the service until April 1, 2001. The delay was to allow Global Package Link customers enough time to transition to other products.

• The Postal Service now realizes that some customers may need additional time to change their manifesting system; therefore, we have further delayed the effective date for elimination of the Global Package Link service until April 30, 2001.

List of Subjects in 39 CFR Part 20

Foreign relations, International postal services.

PART 20—[AMENDED]

This is a technical amendment because it only amends the effective date of the elimination of Global Package Link service. Accordingly, the final rule amending 39 CFR part 20, which was published at 65 FR 77076 on December 8, 2000, is adopted as a final rule without change.

Stanley F. Mires,
Chief Counsel, Legislative.

[FR Doc. 01-9248 Filed 4-12-01; 8:45 am]

BILLING CODE 7710-12-P